DEPARTMENT OF ENERGY

Federal Energy Regulatory Commission

[Project No. 14689-000]

Energy Resources USA Inc., Notice of Preliminary Permit Application Accepted for Filing and Soliciting Comments and Motions To Intervene

On June 26, 2015, Arkansas Electric Cooperative Corporation, filed an application for a preliminary permit, pursuant to section 4(f) of the Federal Power Act (FPA), proposing to study the feasibility of a hydropower project to be located at the U.S. Army Corps of Engineers' (Corps) Col. Charles D. Maynard Lock and Dam on the Arkansas River near the town of Pine Bluff in Jefferson County, Arkansas. The sole purpose of a preliminary permit, if issued, is to grant the permit holder priority to file a license application during the permit term. A preliminary permit does not authorize the permit holder to perform any land-disturbing activities or otherwise enter upon lands or waters owned by others without the owners' express permission.

The proposed project would consist of the following: (1) A 100-foot-long overflow bank extension connecting to the existing dam; (2) a 770-foot-long, 300-foot-wide intake channel with a 85-foot-long retaining wall; (3) a 220-foot-long, 90-foot-wide powerhouse containing four generating units with a total capacity of 18 megawatts; (4) a 1000-foot-long, 220-foot-wide tailrace with a 85-foot-long retaining wall; (5) a 4.16/69 kilo-Volt (kV) substation; and (6) a 3-mile-long, 69 kV transmission line. The proposed project would have an estimated average annual generation of 123,700 megawatt-hours, and operate as directed by the Corps.

Applicant Contact: Mr. Ander Gonzalez, Energy Resources USA Inc., 2655 Le Jeune Road, Suite 804, Coral Gables, Florida 33134; Phone: +34 93 252 38 40; Email: agonzalez@energyresources.es

FERC Contact: Christiane Casey, christiane.casey@ferc.gov, (202) 502-8577.

Competing Application: This application competes with Project No. 14665-000 filed March 3, 2015. Competing applications had to be filed on or before July 20, 2015.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14689) in the docket number field to access the document. For assistance, contact FERC Online Support.

Dated: November 24, 2015.
Nathaniel J. Davis, Sr.,
Deputy Secretary.

[FR Doc. 2015-30403 Filed 11-30-15; 8:45 am]

BILLING CODE 6717-01-P